DEPARTMENT OF ENERGY

Federal Energy Regulatory Commission

[Docket No. AD10-4-000]

Guidance on Preparation of Market-Based Rate Filings and Electric Quarterly Reports by Public Utilities; Supplemental Notice of Technical Conference

February 22, 2010.

As announced in the “Notice of Technical Conference” issued on January 28, 2010, a technical conference will be held on March 3, 2010, from 9 a.m. to 3 p.m. (EST) in the Commission Meeting Room at the Federal Energy Regulatory Commission, 888 First Street, NE., Washington, DC 20426. The conference will be open for the public to attend and advance registration is not required.

The technical conference will focus on the mechanics of how to prepare an initial electric public utility market-based rate application and subsequent filings (including triennial market power reviews and change in status filings), as well as the requirement to submit Electric Quarterly Reports to the Commission once a seller has received market-based rate authorization. At the technical conference staff will also address the most frequently-asked questions that arise on electric market-based rate filings, the most common errors that are made in such filings, and highlight what tools are currently available to sellers in order to simplify the market-based rate application process as well as the preparation of subsequent required filings. The agenda for this conference is attached.

Any person planning to attend the technical conference is strongly encouraged to register, preferably by close of business on Friday, February 26, 2010. Registration may be submitted either online at https://www.ferc.gov/whats-new/registration/mbr-03-03-10-form.asp or by faxing a copy of the form (found at the referenced online link) to (202) 208-0353.

A free webcast of the technical conference will be available. Registration to view the webcast is not required. webcast viewers will not be permitted to participate during the technical conference. Anyone with Internet access interested in viewing this conference can do so by navigating to http://www.ferc.gov's Calendar of Events and locating the appropriate event in the Calendar. The events will contain a link to the applicable webcast option. The Capitol Connection provides technical support for the webcasts and offers the option of listening to the conferences via phone-bridge for a fee. If you have any questions, visit http://www.CapitolConnection.org or call (703) 993-3100.

FERC conferences are accessible under section 508 of the Rehabilitation Act of 1973. For accessibility accommodations please send an e-mail to accessibility@ferc.gov or call toll free (866) 208-3372 (voice) or (202) 502-8659 (TTY), or send a fax to (202) 208-2106 with the required accommodations.

For further information, please contact Ryan Anderson at (202) 502-8122 or e-mail ryan.anderson@ferc.gov.

Kimberly D. Bose,
Secretary.

[FR Doc. 2010-4096 Filed 2-26-10; 8:45 am]

BILLING CODE 6717-01-P